DEPARTMENT OF JUSTICE

Parole Commission

[6P04091]

Sunshine Act Meeting; Public Announcement Pursuant to the Government in the Sunshine Act (Public Law 94-409) (5 U.S.C. 552b)

AGENCY HOLDING MEETING: Department of Justice, United States Parole Commiss

TIME AND DATE: 10 a.m., Friday, January 20, 2006.

PLACE: 5550 Friendship Blvd., Fourth Floor, Chevy Chase, MD 20815.

STATUS: Open.

MATTERS TO BE CONSIDERED: The following matters have been placed on the agenda for the open Parole Commission meeting:

1. Approval of Minutes of Previous Commission Meeting.

2. Reports from the Chairman, Commissioners, Chief of Staff, and Section Administrators.

3. Discussion on Commission budget-priorities and directions.

4. Discussion on a policy regarding treatment of sex offenders and sex offenses.

5. Discussion on a policy regarding the treatment of domestic violence offenders and domestic violence offenses.

6. Discussion on a revised policy regarding prisoner escapes.

7. Discussion on Commissioner participation in hearings.

8. Discussion regarding revised amendment to 28 CFR 2.26 and 2.54 pertaining to appeals and requests for review by the Attorney General.

9. Discussion regarding Commission handling of crime victims.

AGENCY CONTACT: Thomas W. Hutchison, Chief of Staff, United States Parole Commission, (301) 492-5990.

Dated: January 13, 2006.
Rockne Chickinell,
General Counsel, U.S. Parole Commission.

[FR Doc. 06-525 Filed 1-17-06; 11:15 am]

BILLING CODE 4410-31-M